DEPARTMENT OF TRANSPORTATION

Federal Aviation Administration

14 CFR Part 91

[Docket No. FAA-2010-0563; Amendment No. 91-315 (Related to Docket No. FAA-18334)]

Minimum Altitudes for IFR Operations

AGENCY: Federal Aviation Administration (FAA), DOT.

ACTION: Technical amendment.

SUMMARY: The FAA is correcting the introductory text in paragraph (a) of § 91.177 that was published on August 18, 1989. The phrase, “or unless otherwise authorized by the Administrator” was inadvertently removed from paragraph (a) introductory text. This action reinstates that phrase with a minor revision.

DATES: Effective June 2, 2010.

FOR FURTHER INFORMATION CONTACT: Ellen Crum, Air Traffic Systems Operations, Airspace and Rules Group, 800 Independence Ave., SW., Washington, DC 20591; telephone (202) 267-8783; e-mail ellen.crum@faa.gov.

SUPPLEMENTARY INFORMATION:

Background

On August 18, 1989 (54 FR 34288), the FAA published a final rule that revised 14 CFR part 91. In the final rule, the phrase in § 91.177 (a) introductory text “unless otherwise authorized by the Administrator” was inadvertently removed. The impact of this action was not apparent until the FAA recently amended the guidelines for establishing minimum vectoring altitudes. Without this phrase in the regulation, certain altitudes are unavailable to air traffic control. This action corrects this error with a minor revision. We are replacing the word “Administrator” with “FAA”. The new phrase will read “unless otherwise authorized by the FAA”.

Good Cause for Immediate Adoption of This Final Rule

Until recently, the FAA was unaware of the erroneous amendment to this regulation and its impact on minimum vectoring altitudes. The FAA concludes that immediate action is necessary to correct this error and therefore, finds that notice and public comment under 5 U.S.C. 553(b) are impracticable and contrary to the public interest. Further, the FAA finds that good cause exists under 5 U.S.C. 553(d) for making this rule effective immediately upon publication.

List of Subjects in 14 CFR Part 91

Air traffic control, Aircraft, Airmen, Aviation safety, Reporting and recordkeeping requirements.

The Amendment

In consideration of the foregoing, the Federal Aviation Administration amends Chapter 1 of Title 14, Code of Federal Regulations, as follows:

PART 91—GENERAL OPERATING AND FLIGHT RULES

1. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 Stat. 1180).

2. Amend § 91.177 by revising paragraph (a) introductory text to read as follows:

§ 91.177 Minimum altitudes for IFR operations.

(a) Operation of aircraft at minimum altitudes. Except when necessary for takeoff or landing, or unless otherwise authorized by the FAA, no person may operate an aircraft under IFR below—

* * * * *

Issued in Washington, DC on May 27, 2010.
Pamela Hamilton-Powell,
Director, Office of Rulemaking.

[FR Doc. 2010-13132 Filed 6-1-10; 8:45 am]

BILLING CODE 4910-13-P